DEPARTMENT OF JUSTICE

Antitrust Division

Notice Pursuant to the National Cooperative Research and Production Act of 1993—Cooperative Research Group on Mechanical Stratigraphy and Natural Deformation in the Permian Strata of Texas and New Mexico: Implications for Exploitation of the Permian Basin

Notice is hereby given that, on April 18, 2017, pursuant to Section 6(a) of the National Cooperative Research and Production Act of 1993, 15 U.S.C. 4301 et seq. (“the Act”), Southwest Research Institute—Cooperative Research Group on Mechanical Stratigraphy and Natural Deformation in the Permian Strata of Texas and New Mexico: Implications for Exploitation of the Permian Basin (“Permian Basin”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Anadarko, The Woodlands, TX; EP Energy E&P Company, L.P., Houston, TX; and Shell Oil Company, Houston, TX. The general area of Permian Basin's planned activity will involve outcrop investigation of deformation and mechanical stratigraphy in Permian strata exposed in and around the Permian Basin of Texas and New Mexico. The analysis will include characterizing the distribution, mechanisms, and orientations of small-scale deformation related to the Ancestral Rockies, Ouachita, Laramide, and Basin and Range tectonic events and the associated paleostress conditions. The investigation will continue into the subsurface, relating deformation to tectonic setting, structural position, and mechanical stratigraphy within productive and potentially productive portions of the Permian Basin.

Patricia A. Brink,
Director of Civil Enforcement, Antitrust Division.

[FR Doc. 2017-09618 Filed 5-11-17; 8:45 am]

BILLING CODE P